COMMISSION ON CIVIL RIGHTS

Sunshine Act Meeting Notice

AGENCY: United States Commission on Civil Rights.

ACTION: Notice of meeting.

DATE AND TIME: Thursday, September 24, 2009; 11:30 a.m. EDT.

PLACE: Via Teleconference. Public Dial In—1-800-597-7623. Conference ID # 30578462.

Meeting Agenda

This meeting is open to the public.

I. Approval of Agenda

II. Approval of Minutes of September 3, 2009 and September 11, 2009 Meetings

III. Management and Operations

• Submission of FY 2011 Budget Estimate to the Office of Management and Budget.

IV. State Advisory Committee Issues

• Iowa SAC.

• Nevada SAC.

• North Dakota SAC.

V. Adjourn

CONTACT PERSON FOR FURTHER INFORMATION: Lenore Ostrowsky, Acting Chief, Public Affairs Unit (202) 376-8582. TDD: (202) 376-8116. Persons with a disability requiring special services, such as an interpreter for the hearing impaired, should contact Pamela Dunston at least seven days prior to the meeting at 202-376-8105. TDD: (202) 376-8116.

Dated: September 14, 2009.
David Blackwood,
General Counsel.

[FR Doc. E9-22438 Filed 9-14-09; 4:15 pm]

BILLING CODE 6335-01-P